DEPARTMENT OF HEALTH AND HUMAN SERVICES

Centers for Disease Control and Prevention

[60Day-23-0106; Docket No. CDC-2023-0029]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Preventive Health and Health Services Block Grant. CDC will use the Block Grant Information System to collect recipient data, monitor awardees' progress, identify activities and personnel supported with Block Grant funding, conduct compliance reviews of Block Grant recipients, and promote the use of evidence-based guidelines and interventions in accordance with legislative mandates.

DATES: CDC must receive written comments on or before June 30, 2023.

ADDRESSES: You may submit comments, identified by Docket No. CDC-2023-0029 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Preventive Health and Health Services Block Grant (OMB Control No. 0920-0106, Exp. 02/29/2024)—Extension—National Center for State, Tribal, Local and Territorial Public Health Infrastructure and Workforce (NCSTLTPHIW), Centers for Disease Control and Prevention (CDC).

Background and Brief Description

The CDC's National Center for State, Tribal, Local and Territorial Public Health Infrastructure and Workforce (NCSTLTPHIW) plays a vital role in helping health agencies work to enhance their capacity and improve their performance to strengthen the public health system on all levels. NCSTLTPHIW is CDC's primary connection to health officials and leaders of state, tribal, local, and territorial public health agencies, as well as other government leaders who work with health departments.

NCSTLTPHIW administers the Preventive Health and Health Services Block Grant (PHHSBG) funding for health promotion and disease prevention programs. Sixty-one awardees (50 states, the District of Columbia, two American Indian Tribes, five U.S. territories, and three freely associated states) receive Block Grant funds to address locally-defined public health needs in innovative ways. The PHHS Block Grant allows awardees to prioritize the use of funds to fill funding gaps in programs that deal with leading causes of death and disability, as well as the ability to respond rapidly to emerging health issues, including outbreaks of food-borne infections and water-borne diseases. NCSTLTPHIW ensures that the CDC PHHS Block Grant Program Managers and recipients account for funds in accordance with legislative mandates. Each awardee is required to submit a work plan with its selected health outcome objectives, as well as descriptions of the health problems, identified target populations (including portions of those populations disproportionately affected by the health problems), and activities to be addressed in the planned work. The CDC will use the Block Grant Information System to collect recipient data, monitor awardees' progress, identify activities and personnel supported with Block Grant funding, conduct compliance reviews of Block Grant recipients, and promote the use of evidence-based guidelines and interventions.

CDC requests OMB approval for this Extension to an existing information collection request. As specified in the authorizing legislation, CDC currently collects information from Block Grant awardees to monitor their objectives and activities. Awardees will submit information on the following:

• Recipient information: collects unique identifying information about each recipient.

• Work plan: collects information about objectives, activities, and the populations to be addressed each year.

• Annual Progress Report: collects information about success and progress toward meeting health objectives.

Since 2021, CDC has collected this information using a web-based electronic system, the Block Grant Information System (BGIS). The respondent universe will include PHHSBG program Block Grant Coordinators. All modules will be accessed electronically through the BGIS system. CDC requests OMB approval for an estimated 1,464 annual burden hours.

Estimated Annualized Burden Hours
Type of respondents | Form name | Number of respondents | Number of responses per respondent | Average burden per response (in hours) | Total burden (in hours)
PHHS Block Grant Coordinator | Workplan start and advisory committee questions worksheet | 61 | 1 | 2 | 122
PHHS Block Grant Coordinator | Workplan program questions worksheet | 61 | 1 | 11 | 671
PHHS Block Grant Coordinator | Combined Annual Progress Report template | 61 | 1 | 11 | 671
Total |  |  |  |  | 1,464

Jeffrey M. Zirger,
Lead, Information Collection Review Office, Office of Scientific Integrity, Office of Science, Centers for Disease Control and Prevention.

[FR Doc. 2023-09088 Filed 4-28-23; 8:45 am]

BILLING CODE 4163-18-P